DEPARTMENT OF TRANSPORTATION

Federal Aviation Administration

Proposed Advisory Circular (AC) 145-MAN, Guide for Developing and Evaluating Repair Station and Quality Control Manuals

Correction

In notice document 02-29666 appearing on page 70291 in the issue of Thursday, November 21, 2002, make the following correction:

On page 70291, in the first column, under the DATES heading, in the third line, “February 5, 2002” should read, “February 5, 2003”.

[FR Doc. C2-29666 Filed 11-27-02; 8:45 am]

BILLING CODE 1505-01-D